POSTAL REGULATORY COMMISSION

[Docket No. C2020-1; Presiding Officer's Ruling No. 4]

Complaint of Randall Ehrlich

AGENCY: Postal Regulatory Commission.

ACTION: Notice.

SUMMARY: The Commission is revising the procedural schedule for the Complaint of Randall Ehrlich v. United States Postal Service, which relates to alleged discrimination by Postal Service management in continuing a suspension of mail service due to a dog hold on the Complainant's residence. This notice informs the public of the revised procedural schedule.

DATES: Prehearing Conference: September 1, 2020 at 1:00 p.m. Eastern Daylight Time (10:00 a.m. Pacific Daylight Time) by telephone; Hearing of evidence to begin: October 5, 2020; Deadline for requests to hold a hearing before the Presiding Officer for oral presentation of evidence: no later than 7 days before the prehearing conference.

ADDRESSES: For additional information, Presiding Officer's Ruling No. 4 can be accessed electronically through the Commission's website at https://www.prc.gov.

FOR FURTHER INFORMATION CONTACT: David A. Trissell, General Counsel, at 202-789-6820.

SUPPLEMENTARY INFORMATION:

Table of Contents

I. Introduction

II. Revised Procedural Schedule

I. Introduction

Pursuant to 39 CFR 3001.19 and 39 CFR 3001.17, the Commission gives notice that the procedural schedule has been adjusted for the Complaint of Randall Ehrlich v. United States Postal Service, which relates to alleged discrimination by Postal Service management in continuing a suspension of mail service due to a dog hold on the Complainant's residence, potentially violating 39 U.S.C. 403(c).¹ This notice informs the public of the revised procedural schedule established in Presiding Officer's Ruling No. 4.²

¹ Complaint of Randall Ehrlich, December 23, 2019.

² See Presiding Officer's Ruling Adjusting Procedural Schedule, May 8, 2020.

II. Revised Procedural Schedule

1. A prehearing conference is scheduled to be conducted before the Presiding Officer on September 1, 2020 at 1:00 p.m. Eastern Daylight Time (10:00 a.m. Pacific Daylight Time) by telephone.

2. The hearing of evidence in this case shall begin October 5, 2020.

3. A request to hold a hearing before the Presiding Officer for the oral presentation of evidence (including any testimony) shall be filed no later than 7 days before the prehearing conference and shall specify each witness for which oral testimony is proposed.

Erica A. Barker,
Secretary.

[FR Doc. 2020-10354 Filed 5-13-20; 8:45 am]

BILLING CODE 7710-FW-P